DEPARTMENT OF TRANSPORTATION

Federal Railroad Administration

Notice of Withdrawal and Reissue for Notice of Funding Opportunity for Projects Located Off the Northeast Corridor for the Fiscal Year 2024 Federal-State Partnership for Intercity Passenger Rail Program

AGENCY: Federal Railroad Administration (FRA), Department of Transportation (DOT).

ACTION: Notice of withdrawal; reissuance of notice.

SUMMARY: On October 2, 2024, FRA published a Notice of Funding Opportunity (NOFO) in the Federal Register announcing the availability of funding and procedures to obtain grant funding for eligible projects located off the Northeast Corridor for the Fiscal Year (FY) 2024 Federal-State Partnership for Intercity Passenger Rail Program (FSP-National). The full text of the October 2, 2024, NOFO can be found at www.Grants.gov using the funding opportunity ID FR-FSP-24-003. In order to comply with subsequent Executive Orders and to incorporate additional funding, FRA is withdrawing the full text of the October 2, 2024, notice and re-issuing a notice for FSP-National. The full text of the reissued NOFO can be found using the funding opportunity ID FR-FSP-23-004. The total funding available for awards under the reissued NOFO is up to $5,070,784,989.

DATES: Applications for funding under this solicitation are due no later than 11:59 p.m. Eastern Time (ET) January 7th, 2026. Applications that are incomplete or received after 11:59 p.m. EST January 7th, 2026 will not be considered for funding. FRA reserves the right to modify this deadline. See Section 4 of the reissued NOFO for additional information on the application process.

ADDRESSES: Applicants must submit all application materials, in their entirety, through www.Grants.gov. FRA is committed to ensuring that information is available in appropriate alternative formats to meet the requirements of persons who have a disability. If you require an alternative version of files provided, please contact FRA-NOFO-Support@dot.gov.

FOR FURTHER INFORMATION CONTACT: For further information concerning this notice, grant application submission, and processing questions, please contact FRA-NOFO-Support@dot.gov.

SUPPLEMENTARY INFORMATION: In order to comply with subsequent Executive Orders and to incorporate FY 2025 annual and advanced funding, and additional FY 2022-2024 advanced funding, FRA is withdrawing the full text of the October 2, 2024 NOFO, 89 FR 80304, and re-issuing a notice for FSP-National. The full text of the reissued NOFO can be found at www.Grants.gov using the funding opportunity ID FR-FSP-23-004. The total funding available for awards under the reissued NOFO is up to $5,070,784,989.

Robert Andrew Feeley,
Acting Administrator.

[FR Doc. 2025-18489 Filed 9-23-25; 8:45 am]

BILLING CODE 4910-06-P